NUCLEAR REGULATORY COMMISSION

10 CFR Part 72

[NRC-2015-0186]

RIN 3150-AJ65

List of Approved Spent Fuel Storage Casks: NAC International, Inc., MAGNASTOR® Cask System; Certificate of Compliance No. 1031, Amendment Nos. 0-3, Revision 1

AGENCY: Nuclear Regulatory Commission.

ACTION: Direct final rule; confirmation of effective date.

SUMMARY: The U.S. Nuclear Regulatory Commission (NRC) is confirming the effective date of February 1, 2016, for the direct final rule that was published in the Federal Register on November 18, 2015. This direct final rule amended the NRC's spent fuel storage regulations by revising the NAC International, Inc., MAGNASTOR® Cask System listing within the “List of approved spent fuel storage casks” to include Revision 1 to Amendment Nos. 0-3 to Certificate of Compliance (CoC) No. 1031. Revision 1 to Amendment Nos. 0-3 to CoC No. 1031 makes changes to the Technical Specifications (TS), including correcting a typographical error in two actual boron loadings in TS 4.1.1(a), and revising the decay times in Tables B2-4 (for Amendment Nos. 0 and 1) and B2-5 (for Amendment Nos. 2 and 3) in Appendix B of the TSs for minimum additional decay time required for spent fuel assemblies that contain nonfuel hardware.

DATES: Effective date: The effective date of February 1, 2016, for the direct final rule published November 18, 2015 (80 FR 71929), is confirmed.

ADDRESSES: Please refer to Docket ID NRC-2015-0186 when contacting the NRC about the availability of information for this action. You may obtain publicly-available information related to this action by any of the following methods:

• Federal Rulemaking Web site: Go to http://www.regulations.gov and search for Docket ID NRC-2015-0186. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O-1F21, One White Flint North, 11555 Rockville Pike, Rockville, Maryland 20852.

FOR FURTHER INFORMATION CONTACT: Solomon Sahle, Office of New Reactors, U.S. Nuclear Regulatory Commission, Washington, DC 20555-0001; telephone: 301-415-3781; email: Solomon.Sahle@nrc.gov.

SUPPLEMENTARY INFORMATION:

I. Discussion

On November 18, 2015 (80 FR 71929), the NRC published a direct final rule amending its regulations in § 72.214 of title 10 of the Code of Federal Regulations by revising the NAC International, Inc., MAGNASTOR® Cask System listing within the “List of approved spent fuel storage casks” to include Revision 1 to Amendment Nos. 0-3 to CoC No. 1031. Revision 1 to Amendment Nos. 0-3 to CoC No. 1031 makes changes to the TSs, including correcting a typographical error in two actual boron loadings in TS 4.1.1(a), and revising the decay times in Tables B2-4 (for Amendment Nos. 0 and 1) and B2-5 (for Amendment Nos. 2 and 3) in Appendix B of the TSs for minimum additional decay time required for spent fuel assemblies that contain nonfuel hardware.

II. Public Comments on the Companion Proposed Rule

In the direct final rule, the NRC stated that if no significant adverse comments were received, the direct final rule would become effective on February 1, 2016. The NRC did not receive any comments on the direct final rule. Therefore, this direct final rule will become effective as scheduled.

Dated at Rockville, Maryland, this 21st day of January, 2016.
For the Nuclear Regulatory Commission.
Cindy Bladey,
Chief, Rules, Announcements, and Directives Branch, Division of Administrative Services, Office of Administration.

[FR Doc. 2016-01547 Filed 1-26-16; 8:45 am]

BILLING CODE 7590-01-P